DEPARTMENT OF EDUCATION

Office of Special Education and Rehabilitative Services; List of Correspondence

AGENCY: Department of Education.

ACTION: List of Correspondence from April 1, 2006 through June 30, 2006.

SUMMARY: The Secretary is publishing the following list pursuant to section 607(f) of the Individuals with Disabilities Education Act, as amended by the Individuals with Disabilities Education Improvement Act of 2004 (IDEA). Under section 607(f) of IDEA, the Secretary is required, on a quarterly basis, to publish in the Federal Register a list of correspondence from the U.S. Department of Education (Department) received by individuals during the previous quarter that describes the interpretations of the Department of IDEA or the regulations that implement IDEA.

FOR FURTHER INFORMATION CONTACT: Melisande Lee or JoLeta Reynolds. Telephone: (202) 245-7468.

If you use a telecommunications device for the deaf (TDD), you may call the Federal Relay Service (FRS) at 1-800-877-8339.

Individuals with disabilities may obtain a copy of this notice in an alternative format (e.g., Braille, large print, audiotape, or computer diskette) on request to the contact persons listed under FOR FURTHER INFORMATION CONTACT.

SUPPLEMENTARY INFORMATION: The following list identifies correspondence from the Department issued from April 1, 2006 through June 30, 2006. Included on the list are those letters that contain interpretations of the requirements of IDEA and its implementing regulations, as well as letters and other documents that the Department believes will assist the public in understanding the requirements of the law and its regulations. The date of and topic addressed by a letter are identified, and summary information is also provided, as appropriate. To protect the privacy interests of the individual or individuals involved, personally identifiable information has been deleted, as appropriate. Although the Department typically publishes a list of correspondence pursuant to section 607(f) of IDEA on a quarterly basis, please note that no list of correspondence was published covering the period January 2, 2006 through March 31, 2006 because the Department did not issue letters interpreting the IDEA during that time period.

Part B—Assistance for Education of All Children With Disabilities

Section 611—Authorization; Allotment; Use of Funds; Authorization of Appropriations

Topic Addressed: Use of Funds.

• Letter dated June 22, 2006 to Louisiana Department of Education State Superintendent Cecil J. Picard, approving the State's request to reallocate Part B funds for State-level activities to purchase equipment and materials for a regional Assistive Technology Center and clarifying that no prior approval from the Department is required to fund a new staff position for the Center.

Section 612—State Eligibility

Topic Addressed: Individualized Education Programs.

• Letter dated June 6, 2006 to El Paso, Texas Attorney Luther Jones, Esq., regarding when amendments to individualized education programs (IEPs) become effective and when the provisions of a prior IEP or subsequent IEP govern.

Topic Addressed: Children with Disabilities Placed in Private Schools by Their Parents.

• Letter dated May 16, 2006 to Massachusetts State Director of Special Education Marcia Mittnacht regarding the obligation of Massachusetts' school districts to provide and pay for special education and related services for parentally-placed private school children with disabilities who reside outside of Massachusetts and attend private elementary schools and secondary schools located in Massachusetts.

Other Letters That Do Not Interpret the Idea But May Be of Interest to Readers

Topic Addressed: No Child Left Behind Act Of 2001.

• Letter dated May 15, 2006 to Chief State School Officers regarding how States can improve implementation of the public school choice and supplemental educational services provisions of the No Child Left Behind Act of 2001.

Topic Addressed: Confidentiality of Education Records.

• Letter dated March 28, 2006 to Los Angeles County Office of Education Deputy General Counsel Monique C. Shay and Los Angeles Unified School District Assistant General Counsel Kelly Rozmus Barnes, from Family Policy Compliance Office Director LeRoy S. Rooker, regarding how the Family Educational Rights and Privacy Act applies to the release of education records without parental consent to comply with a court order.

Electronic Access to This Document

You may view this document, as well as all other Department of Education documents published in the Federal Register, in text or Adobe Portable Document Format (PDF) on the Internet at the following site: http://www.ed.gov/news/fedregister/index.html

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html

(Catalog of Federal Domestic Assistance Number 84.027, Assistance to States for Education of Children with Disabilities)

Dated: August 21, 2006.
John H. Hager,
Assistant Secretary for Special Education and Rehabilitative Services.

[FR Doc. E6-14412 Filed 8-29-06; 8:45 am]

BILLING CODE 4000-01-P